DEPARTMENT OF COMMERCE

National Oceanic and Atmospheric Administration

[RTID 0648-XE666]

North Pacific Albacore United States Stakeholder Meeting; Meeting Cancelled

AGENCY: National Marine Fisheries Service (NMFS), National Oceanic and Atmospheric Administration (NOAA), Commerce.

ACTION: Notice; cancellation of public meeting.

SUMMARY: On January 3, 2025, NMFS published a notice in the Federal Register announcing a U.S. stakeholder meeting to discuss North Pacific albacore management would be held virtually on February 20, 2025. This notice announces the cancellation of that meeting.

FOR FURTHER INFORMATION CONTACT: Emily Reynolds, Pacific Islands Regional Office, tel. 808-725-5039 or emily.reynolds@noaa.gov, or Tyler Lawson, West Coast Region Office, tel. 503-230-5421 or tyler.lawson@noaa.gov.

SUPPLEMENTARY INFORMATION: On January 3, 2025, NMFS published a notice in the Federal Register announcing a U.S. stakeholder meeting to discuss North Pacific albacore management would be held virtually on February 20, 2025, from 1 p.m. to 4 p.m. PST (11 a.m.-2 p.m. HST) (90 FR 307). That meeting is now cancelled.

Authority: 16 U.S.C. 951 et seq., 16 U.S.C. 1801 et seq., and 16 U.S.C. 6901 et seq.

Dated: February 10, 2025.
Karen H. Abrams,
Acting Director, Office of Sustainable Fisheries, National Marine Fisheries Service.

[FR Doc. 2025-02580 Filed 2-12-25; 8:45 am]

BILLING CODE 3510-22-P